DEPARTMENT OF THE INTERIOR

Fish and Wildlife Service

[FWS-R6-R-2012-N232; FF06R06000-FXRS1265066CCP0S2-123]

Establishment of Swan Valley Conservation Area, Montana

AGENCY: Fish and Wildlife Service, Interior.

ACTION: Notice.

SUMMARY: This notice advises the public that the U.S. Fish and Wildlife Service (Service) has established the Swan Valley Conservation Area as a unit of the National Wildlife Refuge System. The Service established the Swan Valley Conservation Area on August 6, 2012, with the donation of an 80-acre conservation easement in Missoula County, Montana.

ADDRESSES: A map depicting the approved Refuge boundary and other information regarding the Refuge is available on the Internet at http://www.fws.gov/mountain-prairie/planning/.

FOR FURTHER INFORMATION CONTACT: Toni Griffin, Planning Team Leader, Division of Refuge Planning, USFWS, P.O. Box 25486, DFC, Denver, CO 80225. http://www.fws.gov/mountain-prairie/planning/.

SUPPLEMENTARY INFORMATION: The Service has established the Swan Valley Conservation Area in western Montana, including portions of Lake and Missoula Counties. The Service will conserve wildlife resources in the conservation area, primarily through the purchase of perpetual easements and a limited amount of fee-title from willing sellers. These easements will connect and expand existing lands under conservation protection. Fee-title purchases will be restricted to lands immediately adjacent to Swan River National Wildlife Refuge.

The project will help ensure the perpetual conservation of one of the last undeveloped, low-elevation coniferous forest ecosystems in western Montana, in the greater Crown of the Continent ecosystem. Based on anticipated levels of landowner participation, objectives for the conservation area are to protect 10,000 acres of wildlife habitat through conservation easements and another 1,000 acres through fee-title around the existing Swan River National Wildlife Refuge. The conservation area is a component of the broader landscape-scale Crown of the Continent initiative to ensure the continued function of one of the only ecosystems in the United States which still contains essentially the full suite of species that were present during the Lewis and Clark expedition. The prioritization for land protection will incorporate the elements of strategic habitat conservation (SHC) to ensure effective conservation. SHC entails strategic biological planning and conservation design, integrated conservation delivery, monitoring, and research at ecoregional scales.

This conservation area allows the Service to purchase conservation easements using the acquisition authority of the Fish and Wildlife Act of 1956 (16 U.S.C. 742a-j) and the Migratory Bird Conservation Act of 1929 (16 U.S.C. 715-715d, 715e, 715f-r). The Federal money used to acquire conservation easements is from the Land and Water Conservation Fund Act of 1965, as amended (16 U.S.C. 460l-4 through 11; funds received under this act are derived primarily from oil and gas leases on the Outer Continental Shelf, motorboat fuel taxes, and the sale of surplus Federal property), and the sale of Federal Duck Stamps [Migratory Bird Hunting and Conservation Stamp Act (16 U.S.C. 718-718j, 48 Stat. 452)]. Additional funding to acquire lands, water, or interests for fish and wildlife conservation purposes could be identified by Congress or donated by nonprofit organizations. The purchase of easements or fee title from willing sellers will be subject to available money.

The Service has involved the public, agencies, partners, and legislators throughout the planning process for the easement program. At the beginning of the planning process, the Service initiated public involvement for the proposal to protect habitats primarily through acquisition of wetland and grassland conservation easements for management as part of the Refuge System. The Service spent time discussing the proposed project with landowners; conservation organizations; Federal, State, and county governments; tribes; and other interested groups and individuals. Open house meetings were held on May 18 and June 2, 2010, in Condon, Montana. These meetings were announced in local and regional media.

In compliance with the National Environmental Policy Act of 1969 (42 U.S.C. 4321), the Service prepared an environmental assessment (EA) that evaluated two alternatives and their potential impacts on the project area. The Service released the draft environmental assessment (EA) and LPP on July 26, 2010, for a 30-day public review period. The draft documents were made available to Federal elected officials and agencies, State elected officials and agencies, Native American tribes with aboriginal or tribal interests, local media, and other members of the public that were identified during the scoping process. The Service received six written comments from agencies, organizations, and members of the public. After all comments were received, they were reviewed, added to the administrative record, and, if substantial, incorporated into the environmental assessment (EA).

Based on the documentation contained in the environmental assessment (EA), a Finding of No Significant Impact was signed on September 24, 2010, for the authorization of the Swan Valley Conservation Area.

Dated: August 24, 2012.
Steve Guertin,
Regional Director, Mountain-Prairie Region, U.S. Fish and Wildlife Service.

[FR Doc. 2013-00658 Filed 1-14-13; 8:45 am]

BILLING CODE 4310-55-P